DEPARTMENT OF THE INTERIOR

Bureau of Indian Affairs

[256A2100DD AAKP300000 A0A501010.000000]

Presidential Memorandum; Lumbee Tribe of North Carolina

AGENCY: Bureau of Indian Affairs, Interior.

ACTION: Notice.

SUMMARY: This notice publishes the Presidential Memorandum titled “Federal Recognition of the Lumbee Tribe of North Carolina.”

DATES: The Presidential memorandum was issued on January 23, 2025.

FOR FURTHER INFORMATION CONTACT: Oliver Whaley, Director, Office of Regulatory Affairs and Collaborative Action, Office of the Assistant Secretary—Indian Affairs, (202) 738-6065.

SUPPLEMENTARY INFORMATION: On January 23, 2025, the President of the United States issued a Presidential memorandum (PM) to the Secretary of the Interior (Secretary) titled “Federal Recognition of the Lumbee Tribe of North Carolina,” which directs the Secretary to review “all applicable authorities regarding the recognition or acknowledgement of Indian tribes” and, in consultation with the leadership of the Lumbee Tribe of North Carolina, “submit to the President a plan to assist the Lumbee Tribe in obtaining full Federal recognition through legislation or other available mechanisms, including the right to receive full Federal benefits” within 90 days of the date of the PM. The PM further authorizes and directs the Secretary to publish the PM in the Federal Register.

Bryan Mercier,
Director, Bureau of Indian Affairs, Exercising the delegated authority of the Assistant Secretary—Indian Affairs.

Federal Recognition of the Lumbee Tribe of North Carolina

January 23, 2025

Memorandum for the Secretary of the Interior

Subject: Federal Recognition of the Lumbee Tribe of North Carolina

Section 1. Purpose and Policy. The Lumbee Tribe of North Carolina, known as the People of the Dark Water, have a long and storied history. The tribe's members were descendants of several tribal nations from the Algonquian, Iroquoian, and Siouan language families, including the Hatteras, the Tuscarora, and the Cheraw. The waters of the Lumbee River and lands that surround it have protected and provided for the Lumbee people for centuries despite war, disease, and many other perils.

In 1885, the State of North Carolina recognized the Lumbee people as an Indian tribe. 1885 N.C. Sess. Laws 92. In 1956, President Dwight D. Eisenhower signed the Lumbee Act (Pub. L. 84-570, 70 Stat. 254), which recognized the Lumbee as the Lumbee Indians of North Carolina but denied the Lumbee Indians the Federal benefits associated with such recognition. Today, according to the State of North Carolina, the Lumbee Tribe consists of more than 55,000 members, making it the largest tribe east of the Mississippi River and the ninth-largest tribe in the Nation.

In 2024, the United States House of Representatives passed, by a vote of 311-96, the Lumbee Fairness Act (H.R. 1101), which would grant to the Lumbee Tribe full Federal recognition, but this legislation was not considered by the United States Senate before the end of the 118th Congress. Similar legislation has passed the House of Representatives several times.

Considering the Lumbee Tribe's historical and modern significance, it is the policy of the United States to support the full Federal recognition, including the authority to receive full Federal benefits, of the Lumbee Tribe of North Carolina.

Sec. 2. Directive for Recognition Plan. (a) Within 90 days of the date of this memorandum, the Secretary of the Interior shall review all applicable authorities regarding the recognition or acknowledgement of Indian tribes and, in consultation with the leadership of the Lumbee Tribe of North Carolina, shall submit to the President a plan to assist the Lumbee Tribe in obtaining full Federal recognition through legislation or other available mechanisms, including the right to receive full Federal benefits.

(b) The plan shall include consideration and analysis of each potential legal pathway to effectuate the full Federal recognition of the Lumbee Tribe, including through an act of Congress, judicial action, or the Procedures for Federal Acknowledgement of Indian Tribes set forth in 25 CFR part 83.

(c) The Secretary of the Interior is authorized and directed to publish this memorandum in the Federal Register.

[FR Doc. 2025-02510 Filed 2-11-25; 8:45 am]

BILLING CODE 4337-15-P